FEDERAL COMMUNICATIONS COMMISSION

Notice of Public Information Collection(s) Being Submitted for Review to the Office of Management and Budget

January 25, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 3, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.”

FOR FURTHER INFORMATION CONTACT: For additional information or copies of the information collection(s), contact Judith B. Herman at 202-418-0214 or via the Internet at Judith-B.Herman@fcc.gov.

SUPPLEMENTARY INFORMATION: OMB Control Number: 3060-0057.

Title: Application for Equipment Authorization.

Form No.: FCC Form 731.

Type of Review: Revision of a currently approved collection.

Respondents: Business or other for-profit.

Number of Respondents: 600 respondents; 10,000 responses.

Estimated Time per Response: 25 hours.

Frequency of Response: On occasion reporting requirement and third party disclosure requirement.

Obligation to Respond: Required to obtain or retain benefits.

Total Annual Burden: 250,000 hours.

Total Annual Cost: $11,017,500.

Privacy Act Impact Assessment: N/A.

Nature and Extent of Confidentiality: Minimal exemption from the Freedom of Information Act (FOIA) under 5 U.S.C. 552(b)(4) and FCC rules under 47 CFR 0.457(d) is granted for trade secrets which may be submitted as attachments to the application FCC Form 731. No other assurances of confidentiality are provided to respondents.

Needs and Uses: The Commission will submit this information collection to the OMB as a revision during this comment period to obtain the full three-year clearance from them. There is an increase in the number of responses, burden hours and annual costs due recalculations of the burden estimates.

On April 23, 2007, the FCC adopted and released a Second Report and Order, FCC 07-56, ET Docket No. 03-201 that modified Parts 2 and 15 of the Commission's rules for equipment approval and unlicensed devices. The amended rules provide for more efficient equipment authorization of both existing modular transmitter devices and emerging partitioned (or “split”) modular transmitter devices. These rule changes will benefit manufacturers by allowing greater flexibility in certifying equipment and providing relief from the need to obtain a new equipment authorization each time the same transmitter is installed in a different final product. The rule changes will also enable manufacturers to develop more flexible and more advanced unlicensed transmitter technologies.

To effectively implement the provisions of the new rules, various modifications to the existing FCC Form 731 are required. The changes are intended to simplify the filing process, however, there is no anticipated change in the per application burden for FCC Form 731 submittal. The following specific changes are proposed on the FCC Form 731 to accommodate modifications (revisions) and simplify filing processes:

(1) Modular Type field addition—a new required field will be added to Section 1 of the form entitled “Modular Type”.

(2) Equipment Authorization Waiver—a new field set requesting information on equipment authorization waivers will be added. The first question “Is there an equipment authorization waiver associated with this application?” will have a default value set to “No”. If the user answers “Yes”, a second question “* * * has the associated waiver been approved and all information uploaded?” requires a positive response.

(3) FCC ID Related Fields—additional instances of the “Related FCC ID” field will be added, to allow the user to inform the FCC of more than one application associated with the current application.

(4) Short-Term Confidentiality Modifications—Short Term Confidentiality questions will be modified to allow the applicant to request Short-Term Confidentiality on the FCC Form 731, and to request a Short-Term confidentiality date no greater than 180 days from the date of Grant.

(5) Knowledge Data Base (KDB) Associated Question—a new field group will be added to the form that captures KDB inquiry information related to the FCC Form 731 application filing. The applicant will be asked “Is there a KDB inquiry associated with this application?” The default response is “No”, and if the applicant responds “Yes”, the user will be required to enter a valid KDB inquiry tracking number.

In addition to the changes to the FCC Form 731 which are necessary to implement the requirements of the new rules, an increase in the burden hours is requested in anticipation of a continuing increase of the greater than 10% annually in the number of applications requiring equipment authorization. This 10% increase is reflected in application submittals directly to the FCC, and to Telecommunications Certification Bodies (TCBs) that act on behalf of the FCC to review application submittals and issue equipment authorization grants.

The Commission will use the information gathered on the FCC Form 731 to determine compliance of the proposed equipment with the Commission's rules. Following authorization of the equipment for marketing by either the FCC or the TCB on behalf of the FCC, the information may also be used to determine:

(a) Whether the operation of the equipment is consistent with the information supplied at the time of authorization, and

(b) whether the equipment marketed complies with the terms of the equipment authorization.

Federal Communications Commission.
Marlene H. Dortch,
Secretary.

[FR Doc. E8-1791 Filed 1-30-08; 8:45 am]

BILLING CODE 6712-01-P